FEDERAL COMMUNICATIONS COMMISSION

Notice of Public Information Collection(s) Being Reviewed by the Federal Communications Commission for Extension Under Delegated Authority

February 17, 2005.

SUMMARY: The Federal Communications Commission, as part of its continuing effort to reduce paperwork burden, invites the general public and other Federal agencies to take this opportunity to comment on the following information collection(s), as required by the Paperwork Reduction Act (PRA) of 1995, Pub. L. 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility and clarity of the information collected; and (d) ways to minimize the burden of the collection of information on the respondents, including the use of automated collection techniques or other forms of information technology.

DATES: Written Paperwork Reduction (PRA) comments should be submitted on or before April 25, 2005. If you anticipate that you will be submitting comments, but find it difficult to do so within the period of time allowed by this notice, you should advise the contact listed below as soon as possible.

ADDRESSES: Direct all Paperwork Reduction Act (PRA) comments to Cathy Williams, Federal Communications Commission, Room 1-C823, 445 12th Street, SW., Washington, DC 20554 or via the Internet to Cathy.Williams@fcc.gov.

FOR FURTHER INFORMATION CONTACT: For additional information or copies of the information collection(s), contact Cathy Williams at 202-418-2918 or via the Internet at Cathy.Williams@fcc.gov.

SUPPLEMENTARY INFORMATION: OMB Control Number: 3060-0185.

Title: Section 73.3613, Filing of Contracts.

Form Number: Not applicable.

Type of Review: Extension of a currently approved collection.

Respondents: Business or other for-profit entities; Not-for-profit institutions.

Number of Respondents: 2,300.

Estimated Time per Response: 0.25 to 0.5 hours.

Frequency of Response: Recordkeeping requirement; On occasion reporting requirement; Third party disclosure requirement.

Total Annual Burden: 950 hours.

Total Annual Cost: $80,000.

Privacy Impact Assessment: No impact(s).

Needs and Uses: In June 2003, the Commission adopted changes to 47 CFR 73.3613 and the FCC's attribution rules. As a result, radio stations located in Arbitron radio markets must now file agreements for the sale of advertising time (i.e., “Joint Sales Agreements” or “JSAs”) that result in attribution under the Commission's multiple ownership rules. 47 CFR 73.3613 requires licensees of television and radio broadcast stations to file with the Commission: (a) Contracts relating to ownership or control and personnel; and (b) time brokerage agreements that result in arrangements being counted under the Commission's multiple ownership rules. Television stations also must file network affiliation agreements. This section also requires certain contracts to be retained at the station and made available for inspection by the Commission upon request.

On June 24, 2004, the Court issued an Opinion and Judgment (“Remand Order”) in which it upheld certain aspects of the new ownership rules, including the attribution of JSAs among radio stations, while requiring further explanation for certain other aspects of the new rules. The Court stated that its prior stay of the new rules would remain in effect pending the outcome of the remand proceeding. The Commission has not yet responded to the Remand Order, but in the meantime the Commission filed a petition for rehearing requesting that the Court lift the stay partially—i.e., with respect to the radio ownership and JSA attribution rules which the Court's Remand Order upheld. On September 3, 2004, the Court issued an Order (“Rehearing Order”) which partially granted the Commission's petition for rehearing, thus lifting the stay of the revised radio ownership and JSA attribution rules. As a result of the Rehearing Order, the Commission's revised radio ownership and JSA attribution rules took effect on September 3, 2004. Implementation of the new radio ownership and JSA attribution rules, as required by the Rehearing Order, triggers the requirement for certain licensees to begin filing JSAs.

Federal Communications Commission.
Marlene H. Dortch,
Secretary.

[FR Doc. 05-3514 Filed 2-23-05; 8:45 am]

BILLING CODE 6712-01-P